DEPARTMENT OF ENERGY

Federal Energy Regulatory Commission

[Docket No. AD07-11-000]

Demand Response in Wholesale Markets; Supplemental Notice

April 6, 2007.

As announced in the Notice of Technical Conference on Demand Response in Wholesale Markets issued on February 16, 2007,¹ the Federal Energy Regulatory Commission will hold a technical conference on Monday, April 23, 2007 on integrating demand response in wholesale markets, including items previously set for conference in a Commission order.² The technical conference will be held in the Commission Meeting Room at the Federal Energy Regulatory Commission, 888 First Street, NE., Washington, DC 20426, from 9 a.m. to 5 p.m. Eastern time. The conference will be open for the public to attend and advance registration is not required. Commissioners may attend the conference.

¹ 72 FR 8378 (Feb. 26, 2007).

² PJM Interconnection, L.L.C., FERC ¶ 61,218, at P 45 (2006).

The agenda for this conference is attached, and contains questions the panelists will be asked to address. If any changes occur, the revised agenda will be posted on the calendar page for this event on the Commission's Web site, http://www.ferc.gov, prior to the event. The discussions at this conference might address matters pending in the following proceedings: PJM Interconnection, L.L.C., Docket Nos. ER06-1474; ER07-508; ER05-1410; EL05-148; Cal. Indep. Sys. Operator Corp., Docket No. ER06-615; ISO New England Inc., Docket Nos. ER07-546, ER07-547; Midwest Indep. Sys. Operator, Docket Nos. ER06-1099-000; ER06-1099-001; ER06-1099-002; and ER07-550.

Transcripts of the conference will be immediately available from Ace Reporting Company (202-347-3700 or 1-800-336-6646) for a fee. They will be available for the public on the Commission's eLibrary system seven calendar days after FERC receives the transcript.

A free Webcast of this event will be available through www.ferc.gov. Anyone with Internet access who desires to view this event can do so by navigating to http://www.ferc.gov's Calendar of Events and locating this event in the Calendar. The event will contain a link to its Web cast. The Capitol Connection provides technical support for the Web casts. It also offers access to this event via television in the Washington, DC area and via phone bridge for a fee. Visit http://www.CapitolConnection.org or contact Danelle Perkowski or David Reininger at the Capitol Connection 703-993-3100 for information about this service.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact:

David Kathan (Technical Information), Office of Markets, Tariffs and Rates, Federal Energy Regulatory Commission, 888 First Street, NE., Washington, DC 20426, (202) 502-6404, David.Kathan@ferc.gov.

Aileen Roder (Legal Information), Office of the General Counsel, Federal Energy Regulatory Commission, 888 First Street, NE., Washington, DC 20426, (202) 502-6022, Aileen.Roder@ferc.gov.

Philis J. Posey,
Acting Secretary.

[FR Doc. E7-7120 Filed 4-13-07; 8:45 am]

BILLING CODE 6717-01-P